DEPARTMENT OF COMMERCE

International Trade Administration

[A-421-811]

Purified Carboxymethylcellulose From the Netherlands: Final Results of Antidumping Duty Administrative Review

AGENCY: Import Administration, International Trade Administration, Department of Commerce.

SUMMARY: On June 22, 2011, the Department of Commerce (the Department) published in the Federal Register its preliminary results in the antidumping duty administrative review of purified carboxymethylcellulose (CMC) from the Netherlands, covering the period July 1, 2009, through June 30, 2010. See Purified Carboxymethylcellulose from the Netherlands; Preliminary Results of Antidumping Duty Administrative Review, 76 FR 36519 (June 22, 2011) (Preliminary Results). The merchandise covered by the order is purified CMC, as described in the “Scope of the Order” section of this notice. The Department gave interested parties an opportunity to comment on the Preliminary Results. We received comments from an interested party on July 5, 2011, and, in light of these comments, have made changes to our margin calculations. Thus, the final results differ from those published in the Department's Preliminary Results. The final weighted-average dumping margin for the reviewed firm is listed below in the section entitled “Final Results of the Review.”

DATES: Effective Date: October 27, 2011.

FOR FURTHER INFORMATION CONTACT: Dena Crossland, David Cordell, or Angelica Mendoza, AD/CVD Operations, Office 7, Import Administration, International Trade Administration, U.S. Department of Commerce, 14th Street and Constitution Avenue, NW., Washington, DC 20230; telephone: (202) 482-3362, (202) 482-0408, or (202) 482-3019, respectively.

SUPPLEMENTARY INFORMATION:

Background

On June 22, 2011, the Department published the preliminary results of the administrative review of the antidumping duty order on purified CMC from the Netherlands. See Preliminary Results. The respondent under review is Akzo Nobel Functional Chemicals B.V. (ANFC). The petitioner in this proceeding is Aqualon Company, a unit of Hercules Inc. We invited interested parties to comment on the Preliminary Results following the publication of the preliminary results. See Preliminary Results at 36524.

On July 5, 2011, petitioner submitted a letter in lieu of a case brief. ANFC did not file any comments on the Preliminary Results and no party requested a hearing concerning the review.

Scope of the Order

The merchandise covered by the order is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent. The merchandise subject to the order is currently classified in the Harmonized Tariff Schedule of the United States at subheading 3912.31.00. This tariff classification is provided for convenience and Customs purposes; however, the written description of the scope of the order is dispositive.

Period of Review

The period of review (POR) is July 1, 2009, through June 30, 2010.

Analysis of Comments Received

All issues raised in petitioner's letter in lieu of a case brief are addressed in the “Issues and Decision Memorandum for the Final Results of the 2009/2010 Antidumping Duty Administrative Review of Purified Carboxymethylcellulose from the Netherlands,” from Christian Marsh, Deputy Assistant Secretary for Antidumping and Countervailing Duty Operations, to Ronald K. Lorentzen, Deputy Assistant Secretary for Import Administration, dated October 20, 2011 (Issues and Decision Memorandum), which is hereby adopted by this notice. A list of the issues raised is attached to this notice as Appendix I. The Issues and Decision Memorandum is a public document and is on file electronically via Import Administration's Antidumping and Countervailing Duty Centralized Electronic Service System (IA ACCESS). Access to IA ACCESS is available in the Central Records Unit (CRU), room 7046 of the main Department of Commerce building. In addition, a complete version of the Issues and Decision Memorandum can be accessed directly on the Internet at http://www.trade.gov/ia/. The signed Issues and Decision Memorandum and the electronic versions of the Issues and Decision Memorandum are identical in content.

Changes Since the Preliminary Results

Based on our analysis of the comments received from petitioner, we have made the following changes in calculating ANFC's dumping margin for the final results: (1) We corrected the margin program with respect to ANFC's U.S. packing expenses by converting the Euro-denominated expenses into U.S. dollars; and (2) we revised ANFC's cost of manufacturing by using the latest major input information supplied by respondent. See Issues and Decision Memorandum at Comments 2 and 3. For further details on how the changes were applied in the margin calculation, see Memorandum to the File, from David Cordell and Dena Crossland, International Trade Analysts, through Angelica Mendoza, Program Manager, entitled “Analysis of Data Submitted by Akzo Nobel Functional Chemicals B.V. (ANFC) in the Final Results of the 2009-2010 Administrative Review of the Antidumping Duty Order on Purified Carboxymethylcellulose (CMC) from the Netherlands,” dated October 20, 2011; see also Memorandum to Neal M. Halper from Christopher J. Zimpo, “Regarding the Antidumping Duty Administrative Review of Purified Carboxymethylcellulose (“CMC”) from the Netherlands, Cost of Production and Constructed Value Calculation Adjustments for the Final Results—Akzo Nobel Functional Chemicals B.V.,” dated October 20, 2011.

Final Results of the Review

We determine the following percentage weighted-average margin to exist for the period July 1, 2009, through June 30, 2010:

Manufacturer/exporter | Weighted-average margin (percentage)
Akzo Nobel Functional Chemicals B.V. | 3.57

Assessment

The Department shall determine, and U.S. Customs and Border Protection (CBP) shall assess, antidumping duties on all appropriate entries. In accordance with 19 CFR 351.212(b)(1), the Department normally calculates an assessment rate for each importer of the subject merchandise covered by the review. In this review, we have calculated, whenever possible, an importer-specific assessment rate or value for merchandise subject to this review as described below.

As noted in the Preliminary Results, all of ANFC's U.S. sales of CMC were constructed-export-price sales (e.g., sales through ANFC's U.S. affiliate to the unaffiliated purchaser in the United States). Accordingly, we divided the total dumping margins for the reviewed sales by the total entered value of those reviewed sales for each importer. We will direct CBP to assess the resulting percentage margin against the entered customs values for the subject merchandise on each importer's respective POR entries. See 19 CFR 351.212(b).

The calculated ad valorem rates will be assessed uniformly on all entries made by the respective importers during the POR. Where the assessment rate is above de minimis, we will instruct CBP to assess duties on all entries of subject merchandise by that importer.

The Department clarified its “automatic assessment” regulation on May 6, 2003. This clarification will apply to entries of subject merchandise during the POR produced by reviewed companies for which these companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

The Department intends to issue assessment instructions directly to CBP 15 days after publication of these final results of review.

Cash Deposit Requirements

The following cash-deposit requirements will be effective upon publication of this notice of final results of administrative review for all shipments of purified CMC from the Netherlands entered, or withdrawn from warehouse, for consumption on or after the date of publication, as provided by section 751(a)(2)(C) of the Act: (1) The cash-deposit rate for ANFC will be the rate established in the final results of this review; (2) for previously reviewed or investigated companies not covered in this review, the cash deposit rate will continue to be the company-specific rate published for the most recent period; (3) if the exporter is not a firm covered in this or any previous review or in the less-than-fair-value (LTFV) investigation but the manufacturer is, the cash-deposit rate will be the rate established for the most recent period for the manufacturer of the merchandise; and (4) if neither the exporter nor the manufacturer is a firm covered in this or any previous review or the investigation, the cash-deposit rate will continue to be the all-others rate of 14.57 percent, which is the all-others rate established by the Department in the LTFV investigation. See Notice of Antidumping Duty Orders: Purified Carboxymethylcellulose from Finland, Mexico, the Netherlands and Sweden, 70 FR 39734 (July 11, 2005). These cash-deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification Regarding Administrative Protective Orders

This notice also serves as a reminder to parties subject to administrative protective orders (APO) of their responsibility concerning the return or destruction of proprietary information disclosed under APO in accordance with 19 CFR 351.305(a)(3). Timely, written notification of the return or destruction of APO materials or conversion to judicial protective order is hereby requested. Failure to comply with the regulations and terms of an APO is a violation that is subject to sanction.

We are issuing and publishing this notice in accordance with sections 751(a)(1) and 777(i)(1) of the Act.

Dated: October 20, 2011.
Ronald K. Lorentzen,
Deputy Assistant Secretary for Import Administration.

Appendix I

Comments in the Issues and Decision Memorandum:

Comment 1: Calculation of the General and Administrative Expense Ratio

Comment 2: Calculation of Major Input Adjustment

Comment 3: U.S. Packing Expense Clerical Error

[FR Doc. 2011-27870 Filed 10-26-11; 8:45 am]

BILLING CODE 3510-DS-P